Title 3—

The President

Proclamation 8598 of November 5, 2010

Veterans Day, 2010

By the President of the United States of America

A Proclamation

On Veterans Day, we come together to pay tribute to the men and women who have worn the uniform of the United States Armed Forces. Americans across this land commemorate the patriots who have risked their lives to preserve the liberty of our Nation, the families who support them, and the heroes no longer with us. It is not our weapons or our technology that make us the most advanced military in the world; it is the unparalleled spirit, skill, and devotion of our troops. As we honor our veterans with ceremonies on this day, let our actions strengthen the bond between a Nation and her warriors.

In an unbroken line of valor stretching across more than two centuries, our veterans have charged into harm’s way, sometimes making the ultimate sacrifice, to protect the freedoms that have blessed America. Whether Active Duty, Reserve, or National Guard, they are our Nation’s finest citizens, and they have shown the heights to which Americans can rise when asked and inspired to do so. Our courageous troops in Iraq, Afghanistan, and around the globe have earned their place alongside previous generations of great Americans, serving selflessly, tour after tour, in conflicts spanning nearly a decade.

Long after leaving the uniform behind, many veterans continue to serve our country as public servants and mentors, parents and community leaders. They have added proud chapters to the story of America, not only on the battlefield, but also in communities from coast to coast. They have built and shaped our Nation, and it is our solemn promise to support our Soldiers, Sailors, Airmen, Marines, and Coast Guardsmen as they return to their homes and families.

America’s sons and daughters have not watched over her shores or her citizens for public recognition, fanfare, or parades. They have preserved our way of life with unwavering patriotism and quiet courage, and ours is a debt of honor to care for them and their families. These obligations do not end after their time of service, and we must fulfill our sacred trust to care for our veterans after they retire their uniforms.

As a grateful Nation, we are humbled by the sacrifices rendered by our service members and their families out of the deepest sense of service and love of country. On Veterans Day, let us remember our solemn obligations to our veterans, and recommit to upholding the enduring principles that our country lives for, and that our fellow citizens have fought and died for.

With respect for and in recognition of the contributions our service men and women have made to the cause of peace and freedom around the world, the Congress has provided (5 U.S.C. 6103(a)) that November 11 of each year shall be set aside as a legal public holiday to honor our Nation’s veterans.

NOW, THEREFORE, I, BARACK OBAMA, President of the United States of America, do hereby proclaim November 11, 2010, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this fifth day of November, in the year of our Lord two thousand ten, and of the Independence of the United States of America the two hundred and thirty-fifth.

[FR Doc. 2010-28609

Filed 11-9-10; 11:15 am]

Billing code 3195-W1-P